DEPARTMENT OF HEALTH AND HUMAN SERVICES

National Institutes of Health

National Cancer Institute; Amended Notice of Meeting

Notice is hereby given of a change in the meeting of the National Cancer Advisory Board, February 26, 2014, 06:00 p.m. to February 27, 2014, 05:00 p.m., National Institutes of Health, Building 31, 31 Center Drive, Bethesda, MD, 20892 which was published in the Federal Register on February 3, 2014, 79 FR 6205.

The meeting notice is amended to change the start and end time of the Subcommittee meeting on Planning and Budget, and to change the start time of the Board meeting. The Subcommittee meeting will now start at 06:30 p.m. on February 26, 2014, and end at 08:00 p.m., and the Board meeting will now start at 8:30 a.m. on February 27, 2014. The meeting is partially closed to the public.

Dated: February 11, 2014.
Melanie J. Gray,
Program Analyst, Office of Federal Advisory Committee Policy.

[FR Doc. 2014-03407 Filed 2-14-14; 8:45 am]

BILLING CODE 4140-01-P